DEPARTMENT OF ENERGY

Federal Energy Regulatory Commission

[Docket No. CP17-470-004]

Freeport LNG Development, L.P., FLNG Liquefaction 4, LLC; Notice of Request for Extension of Time

Take notice that on June 18, 2025, Freeport LNG Development, L.P. (Freeport LNG) and FLNG Liquefaction 4, LLC (FLIQ4) (together Applicants or Freeport) requested that the Commission grant a 40-month extension of time, until December 1, 2031, to construct and place into service its Train 4 Project (Project) to support additional liquefaction and export operations at Freeport LNG's existing liquefied natural gas (LNG) export terminal located in Brazoria County, Texas (the Terminal), as authorized in the May 17, 2019 Order (Order).¹ The Order required Freeport to complete construction of the Project and make it available for service within four years of the date of the Order, or by May 17, 2023.

¹ Freeport LNG Development, L.P. & FLNG Liquefaction 4, LLC, 167 FERC ¶ 61,155 (2019).

On September 10, 2020, the Commission granted Freeport an extension of time until May 17, 2026, to complete construction of the Train 4 Project and make it available for service.² The Commission has subsequently granted one additional extension of time, making the current date for the Project facilities to be constructed and placed into service August 1, 2028.³

² Freeport LNG Development, LP & FLNG Liquefaction 4, LLC, Letter Order Granting Extension of Time (September 10, 2020).

³ Freeport LNG Development, LP & FLNG Liquefaction 4, LLC, 181 FERC ¶ 61,023 (2022).

Freeport affirms that on June 8, 2022, less than a month after submitting the Second Extension Request, an explosion occurred at the Terminal, which resulted in the entire Terminal being taken offline (June 8 Incident).⁴ The Applicants affirm that Freeport LNG has prioritized restoration efforts and the return of the existing facilities at the Terminal to service since the issuance of the Second Extension Order. Moreover, the new facilities approved for the Train 4 Project require use of the Terminal facilities.

⁴ See Freeport LNG Development, L.P., Letter Discussing LNG Terminal Operation, Docket Nos. CP03-75-000, et al. (June 30, 2022) (June 30 Letter); see also Freeport LNG Development, L.P. & FLNG Liquefaction 4, LLC, 182 FERC ¶ 61,112 (2023) (noting that “the explosion that took the facility offline occurred on June 8, 2022”, the day after comments on the Second Extension Request were due).

In its latest extension of time request, Freeport states that restoration is complete, the Terminal has returned to full service, and normal operations have resumed. Freeport affirms that it is actively marketing the Train 4 Project and engaging in discussions with a number of potential off-takers, including those in more recently emerging markets and in markets with renewed strategic emphasis on securing long-term U.S. LNG supply.

The Applicants assert that due to the upfront, long-term commercial commitments required to be made by LNG customers, and the unique nature of financing LNG projects, certainty regarding Freeport's ability to complete Project construction by the in-service deadline is essential to commercialization of the Project. No changes to the Project are proposed in connection with the requested extension of time.

This notice establishes a 15-calendar day intervention and comment period deadline. Any person wishing to comment on Freeport's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,⁵ the Commission will aim to issue an order acting on the request within 45 days.⁶ The Commission will address all arguments relating to whether the applicant has demonstrated there is good cause to grant the extension.⁷ The Commission will not consider arguments that re-litigate the issuance of the certificate order, including whether the Commission properly found the project to be in the public convenience and necessity and whether the Commission's environmental analysis for the certificate complied with the National Environmental Policy Act (NEPA).⁸ At the time a pipeline requests an extension of time, orders on certificates of public convenience and necessity are final and the Commission will not re-litigate their issuance.⁹ The Director of the Office of Energy Projects, or his or her designee, will act on all of those extension requests that are uncontested.

⁵ Contested proceedings are those where an intervenor disputes any material issue of the filing. 18 CFR 385.2201(c)(1).

⁶ Algonquin Gas Transmission, LLC, 170 FERC ¶ 61,144, at P 40 (2020).

⁷ Id. at P 40.

⁸ Similarly, the Commission will not re-litigate the issuance of an NGA section 3 authorization, including whether a proposed project is not inconsistent with the public interest and whether the Commission's environmental analysis for the permit order complied with NEPA.

⁹ Algonquin Gas Transmission, LLC, 170 FERC ¶ 61,144, at P 40 (2020).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Comment Date: 5:00 p.m. Eastern Time on July 11, 2025.

Dated: June 26, 2025.
Carlos D. Clay,
Deputy Secretary.

[FR Doc. 2025-12259 Filed 6-30-25; 8:45 am]

BILLING CODE 6717-01-P